DEPARTMENT OF THE INTERIOR

Bureau of Land Management

[LLORV00000. L51010000.ER0000. LVRWH09H0480. 16X.HAG 17-0026]

Notice of Availability of the Final Environmental Impact Statement and Proposed Land Use Plan Amendments for the Boardman to Hemingway Transmission Line Project, Oregon

AGENCY: Bureau of Land Management, Interior.

ACTION: Notice.

SUMMARY: In accordance with the National Environmental Policy Act of 1969, as amended (NEPA), and the Federal Land Policy and Management Act of 1976, as amended (FLPMA), the Bureau of Land Management (BLM) has prepared a Final Environmental Impact Statement (EIS) and proposed Land Use Plan (LUP) Amendments for the Boardman to Hemingway Transmission Line Project (Project) and by this notice is announcing its availability. The Final EIS analyzes the potential environmental impacts of granting a right-of-way to Idaho Power Company to construct and operate a 300 mile long high-voltage alternating-current transmission line.

DATES: A person who meets the conditions for protesting an LUP Amendment outlined in 43 CFR 1610.5-2 and wishes to file a protest must file the protest within 30 days of the date that the Environmental Protection Agency publishes its Notice of Availability (NOA) in the Federal Register. The BLM will issue its Record of Decision (ROD) after any protests are resolved, but no earlier than 30 days after the Final EIS is available.

ADDRESSES: Copies of the Final EIS and proposed LUP Amendments have been sent to Federal, Tribal, State, and local governments potentially affected by the proposed Project, to public libraries in the area, and to interested parties that previously requested a DVD copy. Copies of the Final EIS and Proposed LUP Amendments are also available for public inspection at the locations identified in the Supplementary Information section of this notice. Interested persons may also review the Final EIS and Proposed LUP Amendments and supporting documents on the internet at http://www.boardmantohemingway.com/blm.

All protests must be in writing and mailed to one of the following addresses:

Regular Mail: Overnight Delivery: BLM Director (210), Attention: Protest Coordinator, P.O. Box 71383, Washington, DC 20024-1383

Overnight Delivery: BLM Director (210), Attention: Protest Coordinator, 20 M Street SE., Room 2134LM, Washington, DC 20003

FOR FURTHER INFORMATION CONTACT: Tamara Gertsch, National Project Manager, Bureau of Land Management, Vale District Office, P.O. Box 655, Vale, OR 97918; by telephone at 307-775-6115; or email to comment@boardmantohemingway.com. Persons who use a telecommunications device for the deaf may call the Federal Relay Service (FRS) at (800) 877-8339 to contact the above individual during normal business hours. The FRS is available 24 hours a day, 7 days a week, to leave a message or question with the above individual. You will receive a reply during normal business hours.

For information about the United States Forest Services' (USFS) involvement, contact Arlene Blumton, USFS Project Lead by telephone at 541-962-8522; email: ablumton@fs.fed.us. The USFS will provide a mailing address in its Boardman to Hemingway NOA of the Final EIS and Proposed LUP Amendments and a draft USFS ROD to be published in the Federal Register at a later date.

SUPPLEMENTARY INFORMATION: Idaho Power Company filed a right-of-way (ROW) application with the BLM to construct, operate, and maintain the Project, which is an approximately 300-mile-long (depending on the route selected) overhead, single-circuit, 500-kilovolt (kV), alternating-current electric transmission line with additional ancillary facilities. The Project would connect at its northern terminus with the Longhorn Substation proposed by Bonneville Power Administration (BPA), approximately four miles northeast of the city of Boardman in Morrow County, Oregon, to the existing Hemingway Substation, near the city of Melba in Owyhee County, Idaho. When completed, the Project would provide additional electrical load capacity between the Pacific Northwest region and the Intermountain region of southwestern Idaho. The Project also would alleviate existing transmission constraints and ensure sufficient electrical capacity to meet present and forecasted customer needs as described in Idaho Power Company's 2015 Integrated Resource Plan available online at https://www.idahopower.com/AboutUs/PlanningForFuture/irp/2015.

The requested right-of-way width is 250 feet for its entire length, except for a section about 7 miles long that will replace an existing 69kV transmission line, requiring a 90-foot-wide right-of-way within and parallel to the eastern boundary of the Naval Weapons Systems Training Facility (NWSTF) Boardman, as well as a 0.9-mile-long section that will require a 125-foot-wide right-of-way to relocate an existing 230-kv transmission line.

The Project would take approximately 2 to 3 years to construct and would consist of the following permanent facilities:

• A single-circuit 500-kV electric transmission line (including structures and conductors, and other associated facilities) between the proposed Longhorn Substation and the existing Hemingway Substation;

• Associated access roads and access control gates;

• Communication regeneration sites every 40 miles;

• Removal of approximately 15 miles of the existing Boardman to Tap 69-kV transmission line; and

• The re-routing of 0.3 miles of the existing Quartz to Tap 230-kV transmission line.

The BLM may issue a separate short-term right-of-way grant for temporary facilities, including temporary access roads, and geotechnical investigation (also analyzed in the Final EIS) for a period of five years.

Alternative routes considered in the Final EIS cross Federal, State, and private lands. Indian reservations are not crossed; however, lands of Native American concern are within the Project area.

Under Title V of FLPMA, the BLM considers applications for ROWs on BLM-administered lands and must determine whether to grant, grant with modifications, or deny ROW applications. Title V of FLPMA also provides direction to the USFS in responding to applications for special-use authorizations on lands it administers. The BLM is the designated lead Federal agency for preparing the EIS as defined at 40 CFR § 1501.5. The USFS is a cooperating agency because the proposed Project may require a special-use authorization across USFS lands. Additional cooperating agencies include Federal, State, and local agencies.

In accordance with NEPA, the BLM prepared a Draft EIS for the ROW application for the proposed Project using an interdisciplinary approach in order to consider a variety of resource issues and concerns identified during internal, interagency and public scoping. An NOA for the Draft EIS for the Project was published by the U.S. Environmental Protection Agency in the Federal Register on December 19, 2014 (79 FR 75834), initiating a 90-day public comment period. The BLM also published an NOA for the Draft EIS on the same date (79 FR 78088). To allow the public an opportunity to review information associated with the proposed Project and comment on the Draft EIS, the BLM conducted open-house meetings in January 2015 in Boardman, Pendleton, Le Grande, Baker City, Durkee, and Ontario, Oregon; and Marsing, Idaho. An online open house meeting was also available on the Project Web site from December 19, 2014, to March 19, 2015. During the comment period, the BLM received 382 submittals containing 3,750 comments from Federal, State, and local agencies; public and private organizations; and individuals. Principal issues identified in the comments received by BLM included:

• Mitigation;

• Opposition to, or support for, specific route alignments;

• Impacts on sensitive biological resources, including sage-grouse and special status plant species;

• Impacts on the Oregon National Historic Trail (NHT) and other resources in the National Trail System;

• Methods of analysis not clearly explained; and

• Difficulty in comparing alternatives.

The BLM incorporated the comments received on the Draft EIS, where appropriate, to clarify the analysis presented in the Final EIS. Based on comments received on the Draft EIS, the BLM made revisions to update the resource data used to analyze the alternatives in the EIS and added route variations in response to comments and input from cooperating agencies. Comments on the Draft EIS offered recommendations for routing options as variations of sections of the longer alternative routes. The BLM evaluated each route variation option and many of the routing options were carried forward as sections of alternative routes in the Final EIS; only a few were considered, but eliminated from detailed analysis in the Final EIS. Consistent with agency requirements, a systematic approach was used to compare alternatives by analyzing potential impacts and mitigation.

The Final EIS organizes the alternatives into six segments that are based generally on similar geography, natural features, drainages, resources, and/or land uses. Each segment examines multiple alternative routes for those segments, and some of the alternative routes have one or more smaller localized variations. This effort evaluated 24 alternative routes and 40 variations totaling approximately 850 miles in detail, along with a No Action Alternative.

Under the No Action Alternative, neither the BLM right-of-way nor the USFS special-use permit would be granted. As a result, the transmission line and ancillary facilities would not be constructed, and the BLM would not amend its land use plans.

The Final EIS identifies the Agency-Preferred Alternative route, which is approximately 293 miles long. Approximately 34 miles (12 percent) of the Agency-Preferred Alternative route is located within designated utility corridors. The Agency-Preferred Alternative route is co-located with existing transmission lines and pipelines for a distance of approximately 90 miles (31 percent) of the total length of 293 miles. The Agency-Preferred Alternative crosses approximately 100 miles of Federal land, 3 miles of State land, and 190 miles of private land. Although no Indian reservations are crossed, lands of Native American concern are within the Project area.

Segment 1 of the Agency-Preferred Alternative begins in Oregon. There are a few small, isolated parcels of land administered by the BLM; however, the NWSTF Boardman is administered by the Navy. The route exits the proposed Longhorn Substation to the south, crossing the boundary of the NWSTF Boardman at the northeastern corner and parallels the eastern boundary of the NWSTF Boardman on the west side of Bombing Range Road for approximately 7 miles. At that point, the route crosses to the east side of Bombing Range Road, thereby avoiding the Resource Natural Area B, a Resource Management Area, and traditional cultural properties on the NWSTF Boardman. The route proceeds across Bombing Range Road for approximately 350 feet where the route intersects with and the parallels along the east side of Bombing Range Road to the south for approximately 3.6 miles before joining the Applicant's Proposed Action Alternative. From there, the route heads south to join the southern route variation proposed by Morrow and Umatilla counties. The northern portion of the Agency-Preferred Alternative was developed through collaboration with the Navy and Morrow and Umatilla counties and: (1) Repurposes an existing use area currently occupied by the BPA 69-kV transmission line on the NWSTF Boardman (on the west side of and parallel to Bombing Range Road), (2) avoids airspace conflicts by complying with the Navy's requested 100-foot height restriction for transmission lines along Bombing Range Road, (3) avoids and/or minimizes effects on areas planned for potential wind-farm development, and (4) minimizes effects on high-value agricultural lands. The Agency-Preferred Alternative may require mitigation of effects on Washington ground squirrel habitat, traditional cultural properties, and the Oregon NHT.

Where the Agency-Preferred Alternative crosses Navy-administered land, the BLM has analyzed environmental impacts to allow the Navy to tier to the Final EIS in support of its decision whether to grant the necessary authorizations for the removal of the existing BPA 69-kV transmission line and for the construction, operation, and maintenance of the proposed 500-kV transmission line across the 7 miles of military-withdrawn land.

The BLM identified the east-west section of the southern route as the Agency-Preferred Alternative for a number of reasons. This route minimizes effects on areas of potential windfarm development and existing active agricultural lands, and avoids effects on the traditional cultural landscape (associated with the area to the north). In the southernmost portion of Segment 1, on the Wallowa-Whitman National Forest, the USFS identified its preference for use of the designated utility corridor, and endorsed the route as the USFS Agency-Preferred Alternative on the Forest. There are a few small, isolated parcels of BLM-administered lands in Segment 1.

In Segment 2, no lands administered by the BLM are crossed. The Agency-Preferred Alternative route in Segment 2 is the a combination of Variation S2-A2 on the Wallowa-Whitman National Forest, the Glass Hill Alternative with Variation S2-D2, and Variation S2-F2 along the southern portion of Segment 2. The USFS's preference on the Wallowa-Whitman National Forest in this northern portion of the Segment 2 is to co-locate more closely with the existing 230-kV transmission line within the USFS-designated utility corridor to the extent practicable (Variation S2-A2). The intent is to minimize vegetation removal and surface disturbance by using the existing service roads associated with the existing 230-kV transmission line. Continuing on to the southeast, the Agency-Preferred Alternative route follows the Glass Hill Alternative using the Variation S2-D2 (recommended in comments on the Draft EIS). In the area of Glass Hill, this route does not parallel existing linear facilities, but is west of and the farthest from the City of La Grande, Oregon. This option ensures the route is farthest from associated land uses, cultural resources (primarily historic sites) and the Oregon NHT and associated sites. Also, the Glass Hill Alternative avoids some high-value soils (for potential agriculture). Use of Variation S2-D2 would also result in the avoidance of the high elevation (unique ecology) land on Cowboy Ridge, reducing potential visual resource impacts on the Morgan Lake recreation area.

Along the southern portion of Segment 2, the agency preference is (1) to parallel the existing 230-kV transmission line (Variation S2-F2); (2) avoid potential effects on center-pivot and other irrigated agricultural land, and (3) reduce effects on greater sage-grouse General Habitat, and reduce effects on the Oregon NHT.

The Agency-Preferred Alternative in Segment 3 crosses interspersed private land and BLM-administered lands. In the northern portion of Segment 3, the Agency-Preferred Alternative is co-located to parallel more closely an existing 230-kV transmission line. This alternative route has been identified as the Agency-Preferred Alternative because the route (1) parallels existing linear facilities along its entire length (existing 230-kV line along the northern portion and existing 138-kV line along the southernmost portion of the variation), (2) avoids and/or minimizes effects on greater sage-grouse Priority Habitat, (3) avoids and/or minimizes effects on irrigated agriculture, (4) minimizes impacts on a large gravel operation, and (5) was recommended by and developed in collaboration with Baker County and other local stakeholders. From the National Historic Oregon Trail Interpretive Center (NHOTIC), the proposed transmission line would be collocated with the existing 230-kV transmission line and existing agricultural development west of the center. The BLM identified specific mitigation that would minimize visual impacts from the NHOTIC, including a requirement for weathered H-Frame construction.

At the southern end of Segment 3, the Agency-Preferred Alternative parallels an existing 138-kV transmission line for much of its length, avoids irrigated agriculture, avoids greater sage-grouse Priority Habitat, and avoids the Straw Ranch 1 parcel of the Oregon Trail Area of Critical Environmental Concern (ACEC). In addition, in the southern portion of Segment 3, the Agency-Preferred Alternative is a route-variation option developed in coordination with Baker County to reduce: Impacts on irrigated agriculture, impacts on greater sage-grouse General Habitat, the number of freeway crossings, and visual impacts on the Chimney Creek portion of the Oregon Trail ACEC.

The Agency-Preferred Alternative in Segment 4 is a mix of private and Federal land-ownership. This alternative route parallels an existing 138-kV transmission line, and then parallels Interstate 84 to the area west of Farewell Bend. The northern portion of the Agency-Preferred Alternative is within both a West-wide Energy Corridor and BLM-designated utility corridor in the area of Farewell Bend. The alternative route then turns south then southwest to (1) avoid crossing most greater sage-grouse Priority Habitat and (2) and avoid an area of irrigated agriculture of particular concern to local stakeholders. However, there would be impacts on a broad cultural landscape that includes important pre-contact and historic cultural resources extending from the Farewell Bend area to the south as well as cultural and recreational resources associated with the Oregon NHT. These impacts would be addressed as part of mitigation requirements for the project.

The Agency-Preferred Alternative in Segment 5 crosses land administered by the BLM with some private land interspersed. The Agency-Preferred Alternative (1) uses a variation to avoid impacts on lands with wilderness characteristics in the Double Mountain area; (2) avoids impacts on an Owyhee River Below the Dam ACEC; (3) uses portions of the BLM-designated utility corridor along the southern portion of Segment 5; and (4) minimizes habitat fragmentation, impacts on cultural resources, and avoids impacts on an area of the Owyhee River determined by the BLM to be suitable for designation as a National Wild and Scenic River.

The Agency-Preferred Alternative in Segment 6 consists of mixed Federal and private land ownership in the northwestern portion of the segment. The Agency-Preferred Alternative avoids crossing certain private lands at the request of Owyhee County where land-owner permission is required and has not been given. This route also provides more distance from a large cultural resource area known as Graveyard Point. Moving into Idaho, the Agency-Preferred Alternative uses the West-wide Energy Corridor on BLM-administered land to preserve space for future use of the corridor.

The BLM has developed the Final EIS consistent with relevant laws, regulations, and policies, including those guiding agency decisions that may have an impact on resources and their values, services, and functions. The BLM also has considered in the Final EIS measures to mitigate the impacts and, if the BLM approves the ROW application, the BLM will apply the mitigation hierarchy (avoid; minimize; rectify, reduce, or eliminate over time; and compensate) as identified by the Council on Environmental Quality (40 CFR 1508.20) and recent policies on mitigation, including the Presidential Memorandum on Mitigation (Nov. 3, 2015), Secretary of the Interior's Secretarial Order 3330 (Oct. 31, 2013), Department of the Interior's Departmental Manual, 600 DM 6, and BLM's Draft Manual 1794—“Regional Mitigation.” The Project's siting and design, required design features, Project, mitigation measures identified in the Final EIS, and all associated implementation plans have been developed in consideration of the full mitigation hierarchy to avoid, minimize, rectify, or reduce impacts over time, and last, to compensate for unavoidable impacts on important, scarce, or sensitive resources. The priority is to mitigate impacts at the site of the activity through impact avoidance, minimization, rectification, and reduction. If these types of mitigation measures are not sufficient to adequately address anticipated direct, indirect, and cumulative impacts, the BLM will require additional measures to address these impacts, including through compensatory mitigation where appropriate.

Copies of the Final EIS are available for public inspection during normal business hours at the following locations in Oregon:

• Baker County Planning Department, 1995 Third St., Baker City

• Baker County Library, 2400 Resort St., Baker City

• BLM-Baker Field Office, 3285 11th St., Baker City

• Boardman City Library, 200 S. Main St., Boardman

• Harney County Public Library, 80 W. D St., Burns

• Grant County Planning Department, 201 S. Humboldt, Canyon City

• BLM-Burns District Office, 28910 Hwy 20 W., Hines

• Hermiston Public Library, 235 E. Gladys Avenue, Hermiston

• Morrow County Planning Department, 205 NE. Third St., Irrigon

• Grant County Library, 507 S. Canyon Blvd., John Day

• La Grande Public Library, 2006 Fourth St., La Grande

• Union County Planning Department, 1001 4th St., Suite C, La Grande

• USFS-Wallowa Whitman National Forest Office, La Grande Ranger District, 3502 Highway 30, La Grande

• USFS-Wallowa Whitman National Forest, 1550 Dewey Ave, Baker City

• Pendleton Public Library, 502 S.W. Dorion Ave., Pendleton

• Umatilla County Planning Department, 216 SE. Fourth St., Pendleton

• BLM-Prineville District Office, 3050 NE. 3rd St., Prineville

• Ontario Library, 388 S.W. Second Ave., Ontario

• BLM-Vale District Office, 100 Oregon St., Vale

• Malheur County Planning Department, 251 B St. W., Vale

• Oregon Department of Energy, 625 Marion St. NE., Salem

• North Powder City Library, 290 East Street, North Powder

Copies of the Final EIS are available for public inspection during normal business hours at the following locations in Idaho:

• BLM-Boise District Office, 3948 Development Ave., Boise

• Boise Public Library, 715 S. Capitol Blvd., Boise

• BLM-Owyhee Field Office, 20 1st Ave. W., Marsing

• Owyhee County Planning Department, 17069 Basey St., Murphy

• Nampa Public Library, 101 11th Ave. S., Nampa

• Lizard Butte Library, 111 S 3rd Ave. W., Marsing

Agency Decisions on the Proposed Project: Based on the environmental analysis in the Final EIS, the BLM Oregon/Washington State Director will decide whether to grant, grant with modifications, or deny the application for a ROW across BLM-managed lands based on the Agency-Preferred Alternative, another alternative route, or any combination of routes analyzed. The USFS will issue a separate ROD specific to its decision whether or not to issue a Special Use Permit for the portions of the Project that cross National Forest System lands. Depending on the route selected, the Navy and the Bureau of Reclamation also may need to issue decisions on the Project and adopt the Final EIS.

BLM Land Use Plan Amendments and the Protest Process: Depending on the route alternative, the BLM would need to issue a decision to amend LUPs where the portions of the proposed Project crossing BLM-administered lands would not conform to the respective land use plan pursuant to 43 CFR 1610.3-2, 1610.5-5. The BLM has analyzed the environmental impacts of the proposed BLM LUP amendments in the Final EIS. Instances where the Project is not in conformance with applicable land-use plans or objectives include BLM visual resource management (VRM) classifications as explained in the Final EIS. In connection with the Agency-Preferred Alternative, the BLM is proposing three LUP amendments. All proposed LUP Amendments comply with applicable Federal laws and regulations and would apply only to Federal lands and mineral estate administered by the BLM.

• BLM Baker RMP:

o In Segment 3, the 250-feet-wide right-of-way for the Project in VRM Class II lands in Burnt River Canyon (23 acres) would be modified from Class II to Class IV.

• BLM SEORMP—Segment 3

○ In Segment 3, the 250-feet-wide right-of-way for the Project in VRM Class III lands in the vicinity of the National Historic Oregon Trail ACEC (51 acres) would be modified from Class III to Class IV.

○ In Segment 5, the 250-feet-wide right-of-way in VRM Class II lands outside and north of the Owyhee River Below the Dam ACEC (20 acres) would be amended from Class II to Class IV.

Instructions for filing a protest with the Director regarding the proposed BLM LUP Amendments can be found in the “Dear Reader” letter of the Final EIS, available at http://www.boardmantohemingway.com/blm and at 43 CFR 1610.5-2. All protests must be in writing and mailed to the appropriate address, as set forth in the ADDRESSES section. Emailed protests will not be accepted as valid protests unless the protesting party also provides the original by regular mail or overnight delivery postmarked by the close of the protest period. Under these conditions, the BLM will consider the email an advance copy and it will receive full consideration. If you wish to provide the BLM with such advance notification, please direct emails to protest@blm.gov.

USFS Land Use Plan Amendments. Depending on the route alternative selected, LUP Amendments proposed by the USFS are needed for the portions of the Project crossing USFS-administered lands that do not conform to the Wallowa-Whitman National Forest Land and Resource Management Plan (LRMP). For the Agency Preferred-Alternative, instances where the Project is not in conformance with applicable LRMP standards and guidelines include USFS visual quality objectives; LRMP direction for Eastside Screens; and LRMP direction for managing anadromous fish-producing watersheds (direction commonly known as PACFISH) and fish-producing watersheds (direction commonly known as INFISH). For the Agency-Preferred Alternative, the aspects of the Project that do not conform to current USFS LRMP management direction include:

• VQOs crossed by the 250-feet-wide right-of-way for the Project on the Wallowa-Whitman National Forest will be modified from the current objective class (Modified, Partial Retention and Retention) to Maximum Modification.

• LRMP direction for Eastside Screens will be amended to allow sale of timber associated with the Project to proceed without characterizing patterns of stand structure and comparing to the Historic Range of Variability, as required by the Interim Ecosystem Standards (Scenario A). Associated wildlife standards also would be amended for the Project.

• LRMP direction for managing PACFISH and INFISH will be amended to allow timber harvest in riparian habitat conservation areas (associated with Project) and allow issuance of a special-use authorization for the Project.

The USFS will a provide a final evaluation of LRMP compliance in a separate NOA for the Final EIS, Proposed LUP Amendments, and draft USFS ROD, to be issued later date. The BLM has used and coordinated the NEPA comment process to satisfy the public involvement process for Section 106 of the National Historic Preservation Act (54 U.S.C. 306108), as provided for in 36 CFR 800.2(d)(3). Ongoing consultations with American Indian tribal governments will continue in accordance with policy; and tribal concerns, including impacts on Indian trust assets, will be given due consideration. Federal, State, and local agencies, along with other stakeholders that may be interested or affected by the BLM's decision on this proposed Project, were invited to participate.

Before including your phone number, email address, or other personal identifying information in your protest, you should be aware that your entire protest—including personal identifying information—may be made publicly available at any time. While you may ask the BLM in your protest to withhold your personal identifying information from public review, we cannot guarantee that we will be able to do so.

Sally J. Sovey,
Acting State Director, Oregon/Washington.

[FR Doc. 2016-28691 Filed 11-25-16; 8:45 am]

BILLING CODE 4310-33-P